DEPARTMENT OF TRANSPORTATION

Federal Aviation Administration

14 CFR Part 39

[Docket No. FAA-2013-0862; Directorate Identifier 2012-NM-098-AD; Amendment 39-17863; AD 2014-12-02]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model FALCON 2000 and FALCON 2000EX airplanes. This AD was prompted by a determination that new center of gravity (CG) limits are applicable during takeoff with certain conditions. This AD requires revising the airplane flight manual (AFM) to include procedures to advise the flightcrew of the new CG limits. We are issuing this AD to prevent an erratic takeoff path and consequent reduced controllability of the airplane.

DATES: This AD becomes effective August 4, 2014.

The Director of the Federal Register approved the incorporation by reference of certain publications listed in this AD as of August 4, 2014.

ADDRESSES: You may examine the AD docket on the Internet at http://www.regulations.gov/#!docketDetail;D=FAA-2013-0862; or in person at the Docket Management Facility, U.S. Department of Transportation, Docket Operations, M-30, West Building Ground Floor, Room W12-140, 1200 New Jersey Avenue SE., Washington, DC.

For Dassault service information identified in this AD, contact Dassault Falcon Jet, P.O. Box 2000, South Hackensack, NJ 07606; telephone 201-440-6700; Internet http://www.dassaultfalcon.com. For Aviation Partners, Inc. service information identified in this AD, contact Aviation Partners, Inc., 7299 Perimeter Road South, Seattle, WA 98108; telephone 800-946-4638; Internet http://www.aviationpartners.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to certain Dassault Aviation Model FALCON 2000 and FALCON 2000EX airplanes. The NPRM published in the Federal Register on October 3, 2013 (78 FR 61220). The NPRM was prompted by a determination that new center of gravity (CG) limits applicable during takeoff with a Slat/Flap SF2 setting are necessary. The NPRM proposed to require revising the airplane flight manual (AFM) to include procedures to advise the flightcrew of the new CG limits. We are issuing this AD to prevent an erratic takeoff path and consequent reduced controllability of the airplane.

The European Aviation Safety Agency (EASA), which is the Technical Agent for the Member States of the European Community, has issued EASA Airworthiness Directive 2012-0081, dated May 14, 2012 (referred to after this as the Mandatory Continuing Airworthiness Information, or “the MCAI”), to correct an unsafe condition for the specified products. The MCAI states:

During a test flight on a Falcon 2000EX equipped with winglets (commercial designation Falcon 2000LX), performed for the certification of a maximum takeoff weight increase, the aeroplane took off and experienced unsatisfactory control characteristics under specific combined conditions of loading, slat-flap setting and horizontal tailplane trim setting. The weight and the Center of Gravity (CG) of the aeroplane during that test flight were within the already certified limits.

This condition, if not corrected, could result in an erratic take-off path and reduced control of the aeroplane, which could ultimately jeopardize the aeroplane safe flight.

To address this condition, Dassault Aviation developed Change Proposal (CP) 036 to the Airplane Flight Manual (AFM), which introduced new CG limits which are applicable during take-off with Slat/Flap SF2 setting.

Since issuance of EASA PAD [proposed airworthiness directive] 11-077, Dassault Aviation issued a normal AFM revision currently at revision 15, which incorporates Dassault Aviation CP 036.

For the reasons described above, this [EASA] AD requires amendment of the applicable AFM to ensure that the flight crew applies the appropriate operational procedure.

You may examine the MCAI in the AD docket on the Internet at http://www.regulations.gov/#!documentDetail;D=FAA-2013-0862-0002.

Comments

We gave the public the opportunity to participate in developing this AD. The following presents the comments received on the proposal (78 FR 61220, October 3, 2013) and the FAA's response to each comment.

Request To Exclude Certain Airplanes

Dassault stated that the NPRM (78 FR 61220, October 3, 2013) excludes Model FALCON F2000EX airplanes on which Dassault Service Bulletin F2000EX-300, Revision 1, dated May 17, 2013, has been embodied. Dassault added that this service information requires installation of a new Arthur unit that is compatible with EASy II avionics, for airplanes on which winglets have been installed using Dassault Modification M2846 or Dassault Aviation Technical Instructions TI-F2000EX-M2846-ME. Dassault does not know whether airplanes which have been fitted with winglets per Aviation Partners Incorporated Supplemental Type Certificates (STCs) can be excluded from the applicability.

We agree to clarify. We have determined that, for Model FALCON F2000EX airplanes modified by Aviation Partners Incorporated STC ST01987SE http://rgl.faa.gov/Regulatory_and_Guidance_Library/rgstc.nsf/0/1804CCC8BA5562958625770C007757C6?OpenDocument&Highlight=st01987se, the actions specified in Dassault Service Bulletin F2000EX-300, Revision 1, dated May 17, 2013, can be accomplished. Therefore, if the actions specified in Dassault Service Bulletin F2000EX-300, Revision 1, dated May 17, 2013, have been accomplished on any Model FALCON F2000EX airplane, that airplane is excluded from the applicability of this AD. We have not changed this AD in this regard.

Request To Correct Typographical Error

Dassault noted that there is a typographical error in paragraph (c)(1) of the NPRM (78 FR 61220, October 3, 2013). Dassault stated that Dassault Aviation Modification M2848 should be changed to M2846 because number M2848 is incorrect.

We agree with the commenter's request. The correct modification number is identified in the applicability section of the MCAI; therefore, the modification number in paragraph (c)(1) of this final rule has been changed from M2848 to M2846.

Additional Change Made to This Final Rule

We have revised the formatting of paragraph (g) of this final rule for easier readability. This change does not affect the content of that paragraph.

Conclusion

We reviewed the relevant data, considered the comments received, and determined that air safety and the public interest require adopting this AD with the changes described previously and minor editorial changes. We have determined that these minor changes:

• Are consistent with the intent that was proposed in the NPRM (78 FR 61220, October 3, 2013) for correcting the unsafe condition; and

• Do not add any additional burden upon the public than was already proposed in the NPRM (78 FR 61220, October 3, 2013).

We also determined that these changes will not increase the economic burden on any operator or increase the scope of this AD.

Costs of Compliance

We estimate that this AD affects 69 airplanes of U.S. registry.

We also estimate that it will take about 1 work-hour per product to comply with the basic requirements of this AD. The average labor rate is $85 per work-hour. Required parts will cost about $0 per product. Based on these figures, we estimate the cost of the AD on U.S. operators to be $5,865, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0862; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-12-02 Dassault Aviation: Amendment 39-17863. Docket No. FAA-2013-0862; Directorate Identifier 2012-NM-098-AD.

(a) Effective Date

This airworthiness directive (AD) becomes effective August 4, 2014.

(b) Affected ADs

None.

(c) Applicability

This AD applies to Dassault Aviation airplanes, certificated in any category, identified in paragraphs (c)(1) and (c)(2) of this AD; except Model FALCON F2000EX airplanes on which Dassault Aviation Modification M3254 or Dassault Service Bulletin F2000EX-300, Revision 1, dated May 17, 2013, has been embodied.

(1) Model FALCON 2000EX airplanes on which Dassault Aviation modification M2846 or Dassault Aviation Technical Instruction TI-F2000EX-M2846-ME or TI-F2000EX-M3118/M2846-ME has been embodied for the installation of winglets, including the airplane having serial number 602.

(2) Model FALCON 2000 and FALCON 2000EX airplanes modified by Aviation Partners Incorporated Supplemental Type Certificate (STC) ST01987SE http://rgl.faa.gov/Regulatory_and_Guidance_Library/rgstc.nsf/0/1804CCC8BA5562958625770C007757C6?OpenDocument&Highlight=st01987se (installation of winglets).

(d) Subject

Air Transport Association (ATA) of America Code 27, Flight Controls.

(e) Reason

This AD was prompted by a determination that new center of gravity (CG) limits applicable during takeoff with a Slat/Flap SF2 setting are necessary. We are issuing this AD to prevent an erratic takeoff path and consequent reduced controllability of the airplane.

(f) Compliance

You are responsible for having the actions required by this AD performed within the compliance times specified, unless the actions have already been done.

(g) Airplane Flight Manual (AFM) Revision

Within 14 days after the effective date of this AD: Revise the AFM by incorporating the CG limits identified in the service information specified in paragraph (g)(1), (g)(2), or (g)(3) of this AD, as applicable.

(1) For airplanes identified in paragraph (c)(1) of this AD: Sub-sub-section 1-050-05C, “Weights; Center of gravity limits (A/C with M2846 and M3390),” Issue 2; and Sub-sub-section 1-050-05D, “Weights; Center of gravity limits (A/C with M2846 and M3000),” Issue 1; of Sub-section 1-050, “Weights and Loading,” of Section 1, “Limitations,” Issue 5, of the Dassault Aviation FALCON 2000EX EASy, FALCON 2000DX, and FALCON 2000LX AFM DGT88898, Revision 15, dated October 30, 2011.

(2) For Model FALCON 2000 airplanes identified in paragraph (c)(2) of this AD: Aviation Partners, Inc. Dassault Aviation Falcon 2000 with CFE 738 Engines—Blended Winglets Installation, AFM Supplement APF2-0601, Code 002, Revision 3, dated June 1, 2012.

(3) For Model FALCON 2000EX airplanes identified in paragraph (c)(2) of this AD: Aviation Partners, Inc. Dassault Aviation Falcon 2000EX Series—Blended Winglets Installation, AFM Supplement APF2-0601, Code 001, Revision 4, dated June 1, 2012.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to Mandatory Continuing Airworthiness Information (MCAI) EASA Airworthiness Directive 2012-0081, dated May 14, 2012, for related information. This MCAI may be found in the AD docket on the Internet at http://www.regulations.gov/#!documentDetail;D=FAA-2013-0862-0002.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Aviation FALCON 2000EX EASy, FALCON 2000DX, and FALCON 2000LX Airplane Flight Manual (AFM) DGT88898, Revision 15, dated October 30, 2011. This document does not contain dates for the “Issue” levels of the individual sub-sub-sections. The revision level and date of this document are identified on only the title page of the document.

(ii) Aviation Partners, Inc. Dassault Aviation Falcon 2000 with CFE 738 Engines—Blended Winglets Installation, AFM Supplement APF2-0601, Code 002, Revision 3, dated June 1, 2012. The revision level of this document is identified on only the title page, Revision Highlights, and Log of Pages of this document.

(iii) Aviation Partners, Inc. Dassault Aviation Falcon 2000EX Series—Blended Winglets Installation, AFM Supplement APF2-0601, Code 001, Revision 4, dated June 1, 2012. The revision level of this document is identified on only the title page, Revision Highlights, and Log of Pages of this document.

(3) For Dassault service information identified in this AD, contact Dassault Falcon Jet, P.O. Box 2000, South Hackensack, NJ 07606; telephone 201-440-6700; Internet http://www.dassaultfalcon.com.

(4) For Aviation Partners, Inc. service information identified in this AD, contact Aviation Partners, Inc., 7299 Perimeter Road South, Seattle, WA 98108; telephone 800-946-4638; Internet http://www.aviationpartners.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on May 28, 2014.
Jeffrey E. Duven,
Manager, Transport Airplane Directorate, Aircraft Certification Service.

[FR Doc. 2014-13319 Filed 6-27-14; 8:45 am]

BILLING CODE 4910-13-P